DEPARTMENT OF THE TREASURY

Community Development Financial Institutions Fund

Proposed Collection: Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Community Development Financial Institutions (CDFI) Fund, Department of the Treasury, is soliciting comments concerning the Certification of Material Events Form.

DATES: Written comments should be received on or before May 28, 2013 to be assured of consideration.

ADDRESSES: Direct all written comments to Bob Mulderig, Certification, Compliance Monitoring and Evaluation Program Manager, Community Development Financial Institutions Fund, U.S. Department of the Treasury, 1500 Pennsylvania Avenue NW., Washington, DC 20220. Written comments may also be sent by email to CCME@cdfi.treas.gov. Please include the Subject line “Comments on the Certification of Material Events Form.”

FOR FURTHER INFORMATION CONTACT: Requests for additional information or copies of the form(s) and instructions should be directed to Bob Mulderig, Certification, Compliance Monitoring and Evaluation, Community Development Financial Institutions Fund, U.S. Department of the Treasury, 1500 Pennsylvania Avenue NW., Washington, DC 20220, by email to cdfihelp@cdfi.treas.gov, or by phone to (202) 653-0423 (this is not a toll-free number).

SUPPLEMENTARY INFORMATION:

OMB Number: 1559-0037.

Title: Certification of Material Events Form.

Form: CDFI 0036.

Abstract: This specific information collection will capture information related to Community Development Entity (CDE)/New Markets Tax Credit material events, as well as Community Development Financial Institutions (CDFI) material events, in a single form. The revised document will provide a more comprehensive list of potential material events to inform CDEs and CDFIs of the events that need to be reported to the CDFI Fund and will require the CDE or CDFI to affirmatively indicate, through a series of specific questions, whether or not the event will have an impact on areas of operations that are of particular concern to the CDFI Fund. This information will enable the CDFI Fund to better manage the Material Events review process and monitor the effects of Material Events on certification or compliance status.

Current Actions: Extension.

Type of Review: Regular review.

Affected Public: CDFIs and CDEs; including business or other for-profit institutions, non-profit entities, and State, local and Tribal entities.

Estimated Number of Respondents: 200.

Estimated Annual Time per Respondent: .25 Hours.

Estimated Total Annual Burden Hours: 50 Hours.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility and clarity of the information to be collected; (d) ways to minimize the burden of the collection of information on respondents, including through the use of automated collection techniques or other forms of information technology; and (e) estimates of capital or start-up costs and costs of operation, maintenance, and purchase of services to provide information.

Authority: 12 U.S.C. 4701 et seq.; 26 U.S.C. § 45D.

Dated: March 25, 2013.
Dawn D. Wolfgang,
Treasury PRA Clearance Officer.

[FR Doc. 2013-07228 Filed 3-27-13; 8:45 am]

BILLING CODE 4810-70-P